COMMITTEE FOR PURCHASE FROM PEOPLE WHO ARE BLIND OR SEVERELY DISABLED

Procurement List; Additions And Deletions

AGENCY: Committee for Purchase From People Who Are Blind or Severely Disabled.

ACTION: Additions to and deletions from the Procurement List.

SUMMARY: This action adds product and service to the Procurement List that will be furnished by nonprofit agencies employing persons who are blind or have other severe disabilities.

DATES: Effective Date: 1/3/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 10/15/2010 (75 FR 63446-63447), the Committee for Purchase From People Who Are Blind or Severely Disabled published notice of proposed additions to the Procurement List.

After consideration of the material presented to it concerning capability of qualified nonprofit agencies to furnish the product and service and impact of the additions on the current or most recent contractors, the Committee has determined that the product and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 46-48c) in connection with the product and service proposed for addition to the Procurement List.

End of Certification

Accordingly, the following product and service are added to the Procurement List:

Product

Yellow Vinyl Panel Marker/NSN: 8345-00-NSH-0015.

NPA: Development Workshop, Inc., Idaho Falls, ID.

Contracting Activity: Bureau of Land Management, FA-National Interagency Fire Center, Boise, ID.

Coverage: C-List for 100% of the requirement of the FA-National Interagency Fire Center as aggregated by the Bureau of Land Management.

Service

Service Type/Location: Custodial Service. FEMA Louisiana Recovery Office, 1500 Main Street, Baton Rouge, LA.

NPA: Goodworks, Inc., Metairie, LA.

Contracting Activity: Dept of Homeland Security, Federal Emergency Management Agency, Baton Rouge, LA.

Deletions

On 10/15/2010 (75 FR 63446-63447), the Committee for Purchase From People Who Are Blind or Severely Disabled published notice of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Hanger, Magnetic (Picture)

NSN: 5340-00-916-4207-3x6″.

NSN: 5340-00-916-4208-6x7″.

NSN: 5340-00-916-4209-6x6″.

NPA: Knox County Association for Retarded Citizens, Knoxville, TN.

Contracting Activity: GSA/FAS Southwest Supply Center (QSDAC), Fort Worth, TX.

Blanket, Bed

NSN: 7210-00-177-4986.

NPA: Chautauqua County Chapter, NYSARC, Jamestown, NY.

Contracting Activity: GSA/FAS Southwest Supply Center (QSDAC), Fort Worth, TX.

Toner, Cartridges, New

NSN: 7510-01-417-1222.

NPA: Alabama Industries for the Blind, Talladega, AL.

Contracting Activity: GSA/FSS OFC SUP CTR—Paper Products, New York, NY.

Barry S. Lineback,
Director, Business Operations.

[FR Doc. 2010-31072 Filed 12-9-10; 8:45 am]

BILLING CODE 6353-01-P